DEPARTMENT OF COMMERCE

International Trade Administration

Notice of Postponement of Trade Missions From April Through August 2020

AGENCY: International Trade Administration, Department of Commerce.

ACTION: Notice.

SUMMARY: The United States Department of Commerce, International Trade Administration, is announcing the postponement of three upcoming trade missions that were previously announced and published in the Federal Register.

DATES: The following mission dates and deadlines for submitting applications are postponed until further notice:

• Trade Mission to Hong Kong and Indo-Pacific in conjunction with Trade Winds Indo-Pacific, scheduled from April 20-28, 2020.

• Reconstruction Trade Mission to Southern Africa—June 15-18, 2020.

• Executive-led Trade Mission and Business Development Event in East Africa—August 31, 2020-September 3, 2020.

SUPPLEMENTARY INFORMATION: Notice to postpone the dates and deadlines of certain trade missions originally published at 84 FR 48590 (September 16, 2019) and 85 FR 12259 (March 2, 2020).

Background

The Department of Commerce has decided to indefinitely postpone the dates and submission deadlines of the following ITA planned Trade Missions until new dates can be identified: The Trade Mission to Hong Kong and Indo-Pacific in conjunction with Trade Winds Indo-Pacific, scheduled from April 20-28, 2020; the Reconstruction Trade Mission to Southern Africa—June 15-18, 2020; Executive-led Trade Mission and Business Development Event in East Africa—August 31, 2020-September 3, 2020. The Department has been closely monitoring COVID-19 developments and believes postponing these missions is the best decision for the health, safety and welfare of the participants. When we have determined modified dates and submission deadlines for the events, we will inform the public through an updated Federal Register announcement.

Contacts

Trade Mission to Hong Kong and Indo-Pacific in Conjunction With Trade Winds Indo-Pacific

Colleen Fisher, Director of the U.S. Export Assistance Center in Baltimore, MD, Colleen.Fisher@trade.gov; Tel: 410-962-3097.

Leandro Solorzano, Director at the U.S. Export Assistance Center in Phoenix, AZ, Leandro.Solorzano@trade.gov; Tel: 954-356-6647.

Reconstruction Trade Mission to Southern Africa

Tamarind Murrietta, U.S. Commercial Counselor, U.S. Commercial Service Mozambique, Tamarind.Murrietta@trade.gov, +258-2135-5475.

Ashley Bubna, Desk Officer, U.S. Commercial Service Office of Africa, Ashley.bubna@trade.gov, +1-202-482-5205.

Executive-Led Trade Mission and Business Development Event in East Africa

Daniel Gaines, Commercial Officer, +254-20-363-6000 ext. 6424, Daniel.Gaines@trade.gov.

Diane Jones, Senior Commercial Officer, +254-20-363-6000 ext. 6424, Diane.Jones@trade.gov.

Gemal Brangman,
Senior Advisor, Trade Missions, ITA Events Management Task Force.

[FR Doc. 2020-10761 Filed 5-19-20; 8:45 am]

BILLING CODE 3510-DR-P